FEDERAL COMMUNICATIONS COMMISSION

[CG Docket No. 06-181; DA 12-1833]

Notice of Exemption Dismissals and Obligation To Begin Providing Closed Captioning

AGENCY: Federal Communications Commission.

ACTION: Notice.

SUMMARY: In this document, the Commission, via the Consumer and Governmental Affairs Bureau (Bureau) identifies the petitions that were dismissed pursuant to the procedures described in the Bureau's April 2012 Public Notice. Also, this document serves to remind these petitioners of their obligation to provide closed captioning, unless they have already filed a new petition for exemption with the Commission.

FOR FURTHER INFORMATION CONTACT: Traci Randolph, Consumer and Governmental Affairs Bureau, at (202) 418-0569 (voice), (202) 418-0537 (TTY); email: Traci.Randolph@fcc.gov.

SUPPLEMENTARY INFORMATION: This is a synopsis of the Commission's Public Notice, document DA 12-1833, released November 14, 2012, in CG Docket No. 06-181. The full text of this document and copies of any subsequently filed documents in this matter will be available for public inspection and copying during regular business hours at the FCC Reference Information Center, Portals II, 445 12th Street SW., Room CY-A257, Washington, DC 20554. Document DA 12-1833 and copies of subsequently filed documents in this matter may also be purchased from the Commission's duplicating contractor, Best Copying and Printing, Inc. (BCPI), at Portals II, 445 12th Street SW., Room CY-B402, Washington, DC 20554. Customers may contact BCPI at its Web site: http://www.bcpiweb.com, or by calling (202) 488-5300. Document DA 12-1833 and the Appendix listing the petitions dismissed on July 5, 2012, pursuant to DA 12-514 can also be downloaded in Word or Portable Document Format (PDF) at: http://www.fcc.gov/encyclopedia/economically-burdensome-exemption-closed-captioning-requirements.

Synopsis

The April 2012 Public Notice addressed unresolved petitions for exemption that were filed before passage of the Twenty-First Century Communications and Video Accessibility Act (CVAA) on October 8, 2010. Although some of these petitions were previously placed on public notice, no decision to grant or to deny was ever made regarding these petitions. Because considerable time had passed since many of these petitions were first filed, and various circumstances including, but not limited to, the financial status of the petitioners and the cost of captioning may have changed, the Bureau required each petitioner whose petition was listed in the April 2012 Public Notice to do one of the following by July 5, 2012: (1) File an affirmation with the Commission that its previously submitted petition and supporting information were accurate and up-to-date; (2) file updated information in accordance with the Commission's rules to support its claim that captioning its program(s) would be economically burdensome; or (3) withdraw its previously submitted petition. The April 2012 Public Notice alerted petitioners that if they did not take one of the steps listed above by July 5, 2012, their petitions would be dismissed without prejudice on July 5, 2012. The Bureau sent a copy of the April 2012 Public Notice, along with instructions on filing updated information, by certified mail, return receipt requested, to each petitioner at its last known address.

The petitioners listed in the document DA 12-1833 Appendix did not take one of the above steps by July 5, 2012; therefore, their respective petitions were dismissed on July 5, 2012. Accordingly, these petitioners were required to begin captioning their programs on July 6, 2012. In this regard, the Bureau notes that if the programming that was the subject of a petition listed herein aired without captions after the dismissal date of July 5, 2012, the video programming distributor that aired such programming may be in violation of the Commission's closed captioning rules from that date up until the time that a new petition is filed.

If any petitioner listed in DA 12-1833 filed a new petition after July 6, 2012, such petition is considered pending as of the date it was received at the Commission. While a petition for exemption is pending, the video programming that is subject to the petition is exempt from the closed captioning requirements.

Federal Communications Commission.
Karen Peltz Strauss,
Deputy Chief, Consumer and Governmental Affairs Bureau.

[FR Doc. 2012-29358 Filed 12-4-12; 8:45 am]

BILLING CODE 6712-01-P